DEPARTMENT OF THE INTERIOR

Bureau of Reclamation

Pajaro Valley Water Management Agency Revised Basin Management Plan Project, Santa Cruz, Monterey, and San Benito Counties, California

AGENCY: Bureau of Reclamation, Interior.

ACTION: Notice of availability of the draft environmental impact statement and notice of public hearing [DES 03-53].

SUMMARY: Pursuant to section 102(2)(C) of the National Environmental Policy Act (NEPA), the Bureau of Reclamation has prepared a draft environmental impact statement (DEIS) for the Pajaro Valley Water Management Agency (PVWMA) Revised Basin Management Plan Project.

The purpose of the project is to address groundwater overdraft and seawater intrusion problems in the Pajaro Valley Basin. The proposed action is the approval of the connection of a PVWMA pipeline to the Santa Clara Conduit; the funding for the design, planning, and construction of a recycled water facility; and the delivery to and use of Central Valley Project (CVP) water in the Pajaro Valley.

DATES: Submit written comments on the DEIS on or before November 24, 2003 to Lynne Silva, Reclamation, at the below address.

A public hearing will be held to receive comments from interested parties, organizations, and individuals on the environmental impacts of the proposal. The hearing will be held on October 29, 2003 at 7:00 pm at the address below.

ADDRESSES: The public hearing will be held at the Watsonville Senior Center, 114 East 5th Street, Watsonville, CA 95076.

Written comments on the DEIS should be addressed to Ms. Lynne Silva, Reclamation, at the below address.

Copies of the DEIS may be requested from Reclamation's South-Central California Area Office or from PVWMA's office at the following addresses:

• Bureau of Reclamation, South-Central California Area Office, 1243 N Street, Fresno, CA 93721-1813.

• Pajaro Valley Water Management Agency, 36 Brennan Street, Watsonville, CA 95076.

FOR FURTHER INFORMATION CONTACT: Ms. Lynne Silva, Bureau of Reclamation, South-Central California Area Office, telephone (559) 487-5807; or Mr. Charles McNiesh, Pajaro Valley Water Management Agency, (831) 722-9292.

SUPPLEMENTARY INFORMATION: PVWMA is responsible for managing groundwater resources in the Pajaro Valley, located along the central coast of California. In the coastal area and throughout much of the groundwater basin in the Pajaro Valley, overdraft conditions have caused groundwater levels to drop below sea level, creating a landward pressure gradient that causes seawater from the Pacific Ocean to move inland, where it mixes with fresh water. Seawater intrusion increasingly is degrading groundwater quality and limiting the utility of groundwater for irrigation and domestic purposes. PVWMA proposes to prevent further overdraft of the groundwater basin and to halt seawater intrusion by implementing the Revised Basin Management Plan Project. As part of the project, PVWMA would import water supplies from the San Joaquin Valley in California using Central Valley Project (CVP) facilities, and develop a recycled water supply. These actions require Reclamation approval of: (1) Connection of a water pipeline to the Santa Clara Conduit of the San Felipe System of the CVP, (2) the design, planning, and construction of the Watsonville Area Water Recycling Project under Public Law 102-575, Title XVI, Section 1619, as amended, and (3) the environmental analysis of the use of CVP water in the Pajaro Valley.

The DEIS describes and presents the environmental effects of three alternatives, including the alternative of taking no action.

At the hearing, PVWMA staff will make a brief presentation to describe the proposed project, its purpose and need, alternatives, and scenarios for construction and operation. The public may comment on environmental issues addressed in the DEIS. If necessary, due to large attendance, comments may be limited to five minutes per speaker. Written comments will also be accepted.

Reclamation's practice is to make comments, including names and home addresses of respondents, available for public review. Individual respondents may request that we withhold their home address from public disclosure, which we will honor to the extent allowable by law. There may be other circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: July 25, 2003.
Kirk C. Rodgers,
Regional Director, Mid-Pacific Region.

[FR Doc. 03-24261 Filed 9-24-03; 8:45 am]

BILLING CODE 4310-MN-P